DEPARTMENT OF ENERGY

Federal Energy Regulatory Commission

[Docket No. RP00-399-000]

National Fuel Gas Supply Corporation; Notice of Technical Conference

August 31, 2000.

On July 17, 2000, National Fuel Gas Supply Corporation (National Fuel submitted a filing to comply with Order No. 637. Several parties have protested various aspects of National Fuel's filing.

Take notice that a technical conference to discuss the various issues raised by National Fuel's filing will be held on Tuesday, September 26, 2000, at 10:00 am, in a room to be designated at the offices of the Federal Energy Regulatory Commission, 888 First Street, NE, Washington, D.C. 20426. Parties protesting aspects of National Fuel's filing should be prepared to discuss alternatives.

All interested parties and Staff are permitted to attend.

Linwood A. Watson, Jr.,
Acting Secretary.

[FR Doc. 00-22936 Filed 9-6-00; 8:45 am]

BILLING CODE 6717-01-M